DEPARTMENT OF ENERGY

Federal Energy Regulatory Commission

Combined Notice of Filings #1

Take notice that the Commission received the following electric corporate filings:

Docket Numbers: EC13-90-000

Applicants: JPM Capital Corporation

Description: Supplement to April 11, 2013 Section 203 Application for Disposition of Jurisdictional Facilities, et. al. of JPM Capital Corporation.

Filed Date: 4/19/13

Accession Number: 20130419-5083

Comments Due: 5 p.m. ET 4/29/13

Docket Numbers: EC13-95-000

Applicants: AP Holdings, LLC, EDF Trading North America, LLC

Description: Joint Application for Authorization Under Section 203 of the FPA, Request for Expedited Action, and Request for Confidential Treatment of AP Holdings, LLC and EDF Trading North America, LLC.

Filed Date: 4/19/13

Accession Number: 20130419-5088

Comments Due: 5 p.m. ET 5/10/13

Take notice that the Commission received the following exempt wholesale generator filings:

Docket Numbers: EG13-28-000

Applicants: CCI Roseton LLC

Description: Self-Certification of EWG Status of CCI Roseton LLC.

Filed Date: 4/18/13

Accession Number: 20130418-5223

Comments Due: 5 p.m. ET 5/9/13

Docket Numbers: EG13-29-000

Applicants: Imperial Valley Solar 1, LLC

Description: Imperial Valley Solar 1, LLC Notice of Self-Certification of Exempt Wholesale Generator Status.

Filed Date: 4/19/13

Accession Number: 20130419-5116

Comments Due: 5 p.m. ET 5/10/13

Take notice that the Commission received the following electric rate filings:

Docket Numbers: ER13-1306-000

Applicants: Haverhill Coke Company LLC

Description: Tariff Cancellation of Haverhill Coke Company LLC to be effective 4/19/2013.

Filed Date: 4/18/13

Accession Number: 20130418-5186

Comments Due: 5 p.m. ET 5/9/13

Docket Numbers: ER13-1307-000

Applicants: Middletown Coke Company, LLC

Description: Middletown Coke Company, LLC Cancellation of Tariff to be effective 4/19/2013.

Filed Date: 4/18/13

Accession Number: 20130418-5193

Comments Due: 5 p.m. ET 5/9/13

Docket Numbers: ER13-1308-000

Applicants: PJM Interconnection, L.L.C.

Description: PJM Interconnection, L.L.C. submits Notice of Cancellation of Interconnection Service Agreement No. 1382.

Filed Date: 4/18/13

Accession Number: 20130418-5232

Comments Due: 5 p.m. ET 5/9/13

Docket Numbers: ER13-1309-000

Applicants: Carolina Power & Light Company

Description: Revised OATT Attachment H of Carolina Power and Light to be effective 7/1/2012.

Filed Date: 4/19/13

Accession Number: 20130419-5048

Comments Due: 5 p.m. ET 5/10/13

Docket Numbers: ER13-1310-000

Applicants: Florida Power Corporation

Description: Revised OATT Attachment H of Florida Power Corporation to be effective 7/1/2012.

Filed Date: 4/19/13

Accession Number: 20130419-5049

Comments Due: 5 p.m. ET 5/10/13

Docket Numbers: ER13-1311-000

Applicants: Duke Energy Carolinas, LLC

Description: Joint OATT Progress Depreciation to be effective 7/2/2012.

Filed Date: 4/19/13

Accession Number: 20130419-5050

Comments Due: 5 p.m. ET 5/10/13

Docket Numbers: ER13-1312-000

Applicants: Massachusetts Electric Company

Description: Interconnection Agreement Between Massachusetts Electric Co. and Seaman Energy to be effective 6/19/2013.

Filed Date: 4/19/13

Accession Number: 20130419-5113

Comments Due: 5 p.m. ET 5/10/13

Docket Numbers: ER13-1313-000

Applicants: Carolina Power & Light Company

Description: Carolina Power & Light Company submits Application for Revised Depreciation Rates for Power Supply and Coordination Agreement.

Filed Date: 4/19/13

Accession Number: 20130419-5174

Comments Due: 5 p.m. ET 5/10/13

Take notice that the Commission received the following open access transmission tariff filings:

Docket Numbers: OA07-53-009; OA08-100-006

Applicants: Carolina Power & Light Company, Florida Power Corporation

Description: Informational Filing of Operational Penalty Assessments and Distributions of Duke Energy Carolinas, LLC, et al., as Required by Order Nos. 890 and 890-A in OA08-100, et al.

Filed Date: 4/19/13

Accession Number: 20130419-5084

Comments Due: 5 p.m. ET 5/10/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2013.
Nathaniel J. Davis, Sr.,
Deputy Secretary.

[FR Doc. 2013-09971 Filed 4-26-13; 8:45 am]

BILLING CODE 6717-01-P